DEPARTMENT OF DEFENSE

Department of the Air Force

Addendum to the 26 June 2014 Record of Decision for the Final Supplemental Environmental Impact Statement F-35 Beddown at Eglin Air Force Base, Florida

ACTION: Notice of Availability (NOA) of Addendum to 26 June 2014 Record of Decision (ROD).

SUMMARY: On April 23, 2015, the United States Air Force signed an Addendum to the 26 June 2014 ROD for the Final F-35 Beddown Supplemental Environmental Impact Statement (SEIS). The Addendum to the 26 June 2014 Record of Decision (AROD) documents the Air Force's decisions to: (1) Temporarily shift the primary runway to Runway 01/19 (RW 01/19) and allow a temporary increase in previously limited F-35 operations for construction-related closure of Runway 12/30 (RW 12/30), and (2) approve the Department of the Navy's (DoN's) request to add fifteen (15) Backup Aircraft Inventory (BAI) F-35C aircraft at Eglin AFB.

The AROD augments the 26 June 2014 ROD by allowing a one-time, temporary increase in certain F-35 operations on Runway 01/19 (RW 01/19) due to required construction-related closure of Runway 12/30 (RW 12/30) for up to four months from approximately 1 May 2015 through 31 August 2015. During this up to four-month period of construction partially closing RW 12/30, but only after all mitigations measures have first been implemented and/or exhausted, limited additional F-35 operations up to the number and type of average daily operations analyzed in Alternative 1A (predominantly departures/take-offs on RW 01 and approaches/landings on RW 19) of the SEIS and published in Table E-16 at pages E-84 and E-85 in Appendix E, will be allowed on RW 01/19. The additional Navy F-35C BAI will not alter the number or type of F-35C operations analyzed in the SEIS and approved in the 26 June 2014 ROD.

The Final SEIS was made available to the public on February 28, 2014 through a NOA in the Federal Register (Volume 79, Number 40, Page 11428) with a wait period that ended on March 31, 2014. The 26 June 2014 SEIS ROD was made available to the public, through a NOA in the Federal Register (Volume 79, Number 131, Page 38857), on July 9, 2014.

Authority: This NOA is published pursuant to the relevant subsection of the regulations (40 CFR part 1506.6(b)2)) implementing the provisions of the NEPA of 1969 (42 U.S.C. 4321, et seq.) and the relevant subsections of the Air Force's Environmental Impact Analysis Process (EIAP) (32 CFR parts 989.21(b) and 989.24(b)(7)).

FOR FURTHER INFORMATION CONTACT: Mr. Mike Spaits, 850-882-2836.

Henry Williams,
Acting Air Force Federal Register Liaison Officer.

[FR Doc. 2015-10089 Filed 4-29-15; 8:45 am]

BILLING CODE 5001-10-P